DEPARTMENT OF AGRICULTURE

Submission for OMB Review; Comment Request

April 15, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Agriculture Innovation Centers.

OMB Control Number: 0570-0045.

Summary of Collection: The Farm Security and Rural Investment Act of 2002 (Pub. L. 107-171, signed May 13, 2002) authorized the Secretary of the U.S. Department of Agriculture (USDA) to award grant funds for agriculture innovation centers, a demonstration program under which agricultural producers are to be provided with technical and business development assistance enabling them to establish businesses producing and marketing value-added products. This program is administered by Cooperative Programs within USDA's Rural Development. Grants were awarded, on a competitive basis, only in fiscal year 2003. The authorization for this program expired on September 30, 2004; however, centers are required to provide progress reports for the duration of the grant agreement to monitor compliance and measure the success of the program. The 2008 Farm Bill has reauthorized the program through 2012.

Need and Use of the Information: Performance report information is collected semi-annually from the ten agriculture innovation centers funded during the 2003 grant cycle. USDA uses performance reports to confirm that progress is being made toward achieving the stated goals of the project. A final report is submitted at the completion of the grant agreement. Centers may be non-profit corporations, for-profit corporations, institutions of higher learning, and consortia of the aforementioned entities.

Description of Respondents: Not-for-profit Institutions; Business or other for-profit.

Number of Respondents: 10.

Frequency of Responses: Reporting: Semi-annually.

Total Burden Hours: 110.

Charlene Parker,
Departmental Information Collection Clearance Officer.

[FR Doc. E9-9009 Filed 4-17-09; 8:45 am]

BILLING CODE 3410-XT-P